DEPARTMENT OF THE INTERIOR

Fish and Wildlife Service

[FWS-R1-ES-2008-N0199; 10120-1112-0000-F2]

Receipt of an Application for an Enhancement of Survival Permit for the Columbia Basin Pygmy Rabbit

AGENCY: Fish and Wildlife Service, Interior.

ACTION: Notice of receipt of application.

SUMMARY: The Fish and Wildlife Service (Service) announces the receipt of an application for an Enhancement of Survival Permit that would be issued pursuant to section 10(a)(1)(A) of the Endangered Species Act of 1973, as amended (Act). The application was developed in accordance with the Template Safe Harbor Agreement (Template SHA) for the Columbia Basin pygmy rabbit (Brachylagus idahoensis). The permit applicant is the Washington Department of Natural Resources (WDNR). Issuance of a permit to WDNR would exempt incidental take of the Columbia Basin pygmy rabbit, which would otherwise be prohibited by section 9 of the Act, that is above the baseline conditions of WDNR properties enrolled under the Template SHA and that may result from the permittee's otherwise lawful management activities. The Service requests comments from the public regarding the proposed issuance of a permit to WDNR. All comments received will become part of the public record. Before including your address, phone number, e-mail address, or other personal identifying information in your comment, you should be aware that your entire comment—including your personal identifying information—may be made publicly available at any time. While you can ask us in your comment to withhold your personal information from public review, we cannot guarantee that we will be able to do so. All comments received from organizations, businesses, or individuals representing organizations or businesses are available for public inspection in their entirety.

DATES: To be fully considered, written comments from interested parties must be received on or before November 7, 2008.

ADDRESSES: Written comments concerning this notice should be addressed to Supervisor, U.S. Fish and Wildlife Service, Upper Columbia Fish and Wildlife Office, 11103 East Montgomery Drive, Spokane, Washington 99206. You may also send comments by facsimile, at (509) 891-6748, or by electronic mail, at: fw1cbprabbit@fws.gov.

FOR FURTHER INFORMATION CONTACT: Chris Warren at (509) 893-8020.

SUPPLEMENTARY INFORMATION:

Availability of Documents

Copies of the WDNR permit application, the Template SHA, and other relevant documents addressing the Service's proposed issuance of the subject permit are available for public inspection, by appointment, during normal business hours at the Upper Columbia Fish and Wildlife Office (see ADDRESSES), or they may be viewed on the internet at the following address: http://www.fws.gov/easternwashington/. You may also request copies of the documents by contacting the Service's Upper Columbia Fish and Wildlife Office (see FOR FURTHER INFORMATION CONTACT) . The Service is furnishing this notice to provide the public, other State and Federal agencies, and interested Tribes an opportunity to review and comment on the Service's proposed issuance of a permit to the WDNR.

Background

On September 7, 2006, the Service announced the availability for public review and comment of a draft Template SHA, which was jointly developed by the Service and the Washington Department of Fish and Wildlife (WDFW), and a draft Environmental Assessment, which was developed by the Service pursuant to Federal responsibilities under the National Environmental Policy Act (71 FR 52816). The final Template SHA was signed by the Service and WDFW on October 24, 2006. To date, the Service has issued 16 Permits under the Template SHA, which cover 109,425 acres that fall within the historic distribution of the Columbia Basin pygmy rabbit. The WDNR has requested to enroll an additional 11,148 acres of State trust lands under the Template SHA.

The primary objective of the Template SHA is to facilitate collaboration between the Service, WDFW, and prospective participants to voluntarily implement conservation measures to benefit the Columbia Basin pygmy rabbit. Another objective of the Template SHA is to facilitate the processing of enhancement of survival permits that will provide incidental take coverage for participants to relieve them of additional section 9 liability under the Act if implementation of their conservation measures results in increased numbers or distribution of Columbia Basin pygmy rabbits on their enrolled properties.

This notice is provided pursuant to section 10(c) of the Act. The Service has previously determined that implementation of the Template SHA will result in conservation benefits to the Columbia Basin pygmy rabbit and will not result in significant effects to the human environment. The Service will evaluate the permit application noticed herein, related documents, and any comments submitted thereon to determine whether the permit application is consistent with the measures prescribed by the Template SHA and whether it complies with relevant statutory and regulatory requirements. If it is determined that the requirements are met, a permit to exempt incidental take of the Columbia Basin pygmy rabbit will be issued to the applicant. The final permit determination will not be made until after the end of the 30-day comment period, and will fully consider all comments received.

Dated: September 29, 2008.
David J. Wesley,
Deputy Regional Director, Region 1, U.S. Fish and Wildlife Service, Portland, Oregon.

[FR Doc. E8-23557 Filed 10-7-08; 8:45 am]

BILLING CODE 4310-55-P